DEPARTMENT OF ENERGY

Federal Energy Regulatory Commission

[Project No. 2814-025]

Great Falls Hydroelectric Company; City of Paterson, New Jersey; Notice Extending Scoping Comment Period

Take notice that the following hydroelectric application has been filed with the Commission and is available for public inspection.

a. Type of Application: New Major License.

b. Project No.: 2814-025.

c. Date Filed: February 28, 2019.

d. Applicants: Great Falls Hydroelectric Company and the City of Paterson, New Jersey, as co-licensees.

e. Name of Project: Great Falls Hydroelectric Project.

f. Location: On the Passaic River, near the City of Paterson, Passaic County, New Jersey. The project does not occupy federal land.

g. Filed Pursuant to: Federal Power Act 16 U.S.C. 791 (a)-825(r).

h. Applicant Contact: Mr. Robert Gates, Senior Vice President of Operations, Eagle Creek Renewable Energy, 65 Madison Avenue, Suite 500, Morristown, NJ 07960; (973) 998-8400; email—bob.gates@eaglecreekre.com and/or Ben-David Seligman, 2nd Assistant Corp. Counsel, City of Paterson, 155 Market Street, Paterson, NJ; (973) 321-1366; email—bseligman@patersonnj.gov.

i. FERC Contact: Christopher Millard at (202) 502-8256; or email at christopher.millard@ferc.gov.

j. Deadline for filing scoping comments: December 23, 2019.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2814-025.

k. This application is not ready for environmental analysis at this time.

l. The existing project works consist of: (1) The Society for the Establishment of Useful Manufactures dam, an overflow granite stone gravity structure about 315 feet long, with a maximum height of 15 feet and having a crest elevation of 114.6 feet mean sea level (msl); (2) a reservoir with a surface area of 202 acres and a storage capacity of 1,415 acre-feet at elevation 114.6 feet msl; (3) a forebay inlet structure; (4) a headgate control structure containing three trashracks and three steel gates; (5) three penstocks, each 8.5 feet in diameter and approximately 55 feet long; (6) a powerhouse containing three turbine-generator units with a total rated capacity of 10.95 megawatts; (7) a 37-foot-long, 4.16-kilovolt (kV) underground transmission line connecting the powerhouse to a 4.16/26.4-kV step-up transformer which in turn is connected to a 26.4-kV transmission grid via an approximately 30-foot-long, 26.4-kV underground transmission line; (8) and appurtenant facilities.

The Great Falls Project is operated in a run-of-river mode. For the period 2010 through 2018, the average annual generation at the Great Falls Project was 17,484 megawatt-hours.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission staff intends to prepare an environmental assessment (EA) for the Great Falls Project in accordance with the National Environmental Policy Act. The EA will consider both site-specific and cumulative environmental impacts and reasonable alternatives to the proposed action.

Scoping meetings were held on October 23 and 24, 2019, near the project site in Paterson, New Jersey to receive input on the scope of the EA. The meetings were noticed in the Federal Register; however, it has come to our attention that the meetings were not noticed in a local newspaper. Thus, we are extending the comment period to December 23, 2019.

Copies of the scoping document (SD1) outlining the subject areas to be addressed in the EA were distributed to the parties on the Commission's mailing list and the co-licensee's distribution list. Copies of SD1 may be viewed on the web at http://www.ferc.gov using the eLibrary link. Enter the docket number excluding the last three digits in the docket number field to access the document. For assistance, call 1-866-208-3676 or for TTY, (202) 502-8659.

Dated: November 5, 2019.
Kimberly D. Bose,
Secretary.

[FR Doc. 2019-24569 Filed 11-8-19; 8:45 am]

BILLING CODE 6717-01-P